DEPARTMENT OF COMMERCE

International Trade Administration

[A-580-904]

Forged Steel Fittings From the Republic of Korea: Final Results of Antidumping Duty Administrative Review; 2022-2023

AGENCY: Enforcement and Compliance, International Trade Administration, Department of Commerce.

SUMMARY: The U.S. Department of Commerce (Commerce) determines that Samyoung Fitting Co., Ltd. (Samyoung), a producer/exporter subject to this administrative review, made sales of forged steel fittings at less than normal value. The period of review (POR) is December 1, 2022, through November 30, 2023.

DATES: Applicable September 22, 2025.

FOR FURTHER INFORMATION CONTACT: Trinity Johnson, AD/CVD Operations, Office II, Enforcement and Compliance, International Trade Administration, U.S. Department of Commerce, 1401 Constitution Avenue NW, Washington, DC 20230; telephone: (202) 482-0114.

SUPPLEMENTARY INFORMATION:

Background

On March 21, 2025, Commerce published the Preliminary Results in the Federal Register and invited comments from interested parties.¹ From April 11 to 21, 2025, interested parties submitted case and rebuttal briefs.² On June 17, 2025, Commerce held a hearing on issues raised in case and rebuttal briefs.³ On June 24, 2025, Commerce extended the deadline for the final results until September 17, 2025.⁴ On July 30, 2025, Commerce issued its Post-Preliminary Analysis and invited parties to comment.⁵ From August 7 to 12, 2025, interested parties submitted case and rebuttal briefs pertaining to the Post-Preliminary Analysis.⁶

¹ See Forged Steel Fittings from the Republic of Korea: Preliminary Results of Antidumping Duty Administrative Review, 90 FR 13339 (March 21, 2025) (Preliminary Results), and accompanying Preliminary Decision Memorandum.

² See Samyoung's Letter, “Case Brief of Samyoung Fitting Co., Ltd.,” dated April 11, 2025; see also Petitioners' Letter, “Rebuttal Brief,” dated April 21, 2025.

³ See Hearing Transcript, “The Administrative Review of Antidumping Duty Order on Forged Steel Fittings from the Republic of Korea,” dated July 17, 2025.

⁴ See Memorandum, “Extension of Deadline for Final Results of Antidumping Duty Administrative Review,” dated

June 24, 2025

⁵ See Memorandum, “Post-Preliminary Analysis in the 2022-2023 Administrative Review of the Antidumping Duty Order on Forged Steel Fittings from the Republic of Korea,” dated July 30, 2025 (Post-Preliminary Analysis); see also Memorandum, “Briefing Schedule for Post-Preliminary Analysis,” dated July 30, 2025.

⁶ See Samyoung's Letter, “Case Brief of Samyoung Fitting Co., Ltd. Addressing Post-Preliminary Determination,” dated August 7, 2025; see also Petitioners' Letter, “Rebuttal Brief,” dated August 12, 2025.

For a complete description of the events that have occurred since Commerce published the Preliminary Results, as well as a full discussion of the issues raised by parties for these final results, see the Issues and Decision Memorandum.⁷ Commerce conducted this review in accordance with section 751(a) of the Tariff Act of 1930, as amended (the Act).

⁷ See Memorandum, “Issues and Decision Memorandum for the Final Results of the Antidumping Duty Administrative Review of Forged Steel Fittings from the Republic of Korea; 2022-2023,” dated concurrently with, and hereby adopted by, this notice (Issues and Decision Memorandum).

Analysis of Comments Received

All issues raised in the case and rebuttal briefs are addressed in the Issues and Decision Memorandum.⁸ A list of the issues that parties raised and to which we responded in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁸ Id.

Scope of the Order ⁹

⁹ See Forged Steel Fittings from India and the Republic of Korea: Antidumping Duty Orders, 85 FR 80014 (December 11, 2020), as corrected in Forged Steel Fittings from India and the Republic of Korea: Notice of Correction to the Antidumping Duty and Countervailing Duty Orders, 85 FR 81876 (December 17, 2020) (collectively, Order).

The product covered by this Order is forged steel fittings from Korea. For a complete description of the scope of the Order, see the Issues and Decision Memorandum.

Changes Since the Preliminary Results

Based on a review of the record and comments received from interested parties regarding the Preliminary Results and the Post-Preliminary Analysis, we made certain changes to the preliminary weighted-average dumping margins calculated for Samyoung Fittings Co., Ltd. For a detailed discussion of these changes, see the Issues and Decision Memorandum.

Final Results of Review

We determine that the following weighted-average dumping margin exists for the period December 1, 2022, through November 30, 2023:

Producer/exporter | Weighted- average dumping margin (percent)
Samyoung Fitting Co., Ltd | 5.68

Disclosure

We intend to disclose our calculations and analysis performed to interested parties in this final determination within five days of the date of publication in the Federal Register of these final results of review, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), Samyoung reported the entered value of its U.S. sales such that we calculated importer-specific ad valorem duty assessment rates based on the ratio of the total amount of dumping calculated for the examined sales to the total entered value of the sales for which entered value was reported. Where either the respondent's weighted-average dumping margin is zero or de minimis within the meaning of 19 CFR 351.106(c)(1), or an importer-specific assessment rate is zero or de minimis, we will instruct CBP to liquidate the appropriate entries without regard to antidumping duties.

Commerce's “automatic assessment” practice will apply to entries of subject merchandise during the POR produced by Samyoung for which the company did not know that the merchandise it sold to the intermediary (e.g., a reseller, trading company, or exporter) was destined for the United States. In such instances, we will instruct CBP to liquidate unreviewed entries at the all-others rate of 17.08 percent ¹⁰ if there is no rate for the intermediate company(ies) involved in the transaction.

¹⁰ See Order, 85 FR at 66302.

Commerce intends to issue liquidation instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the final results of this administrative review for all shipments of the subject merchandise entered, or withdrawn from warehouse, for consumption on or after the publication date of the final results of this administrative review, as provided by section 751(a)(2)(C) of the Act: (1) the cash deposit rate for the company identified above in the “Final Results of Review” section will be equal to the weighted-average dumping margin established in the final results of this review, except if the rate is less than 0.50 percent and, therefore, de minimis within the meaning of 19 CFR 351.106(c)(1), in which case the cash deposit rate will be zero; (2) for previously investigated or reviewed companies not listed above, the cash deposit rate will continue to be the company-specific cash deposit rate published for the most recently completed segment; (3) if the exporter is not a firm covered in this review, or the original less-than-fair-value (LTFV) investigation, but the producer is, then the cash deposit rate will be the cash deposit rate established for the most recently completed segment for the producer of the merchandise; and (4) the cash deposit rate for all other producers or exporters will continue to be 17.08 percent, the all-others rate established in the LTFV investigation.¹¹ These cash deposit requirements, when imposed, shall remain in effect until further notice.

¹¹ Id.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act.

Dated: September 17, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results And Post-Preliminary Analysis

V. Discussion of the Issues

Comment 1: Reclassification of Samyoung's Customized Products in the Preliminary Results

Comment 2: Whether Commerce's New Differential Pricing Methodology Provides a Reasonable Basis for Departing from the Average-to-Average Methodology

Comment 3: Whether the Preliminary Results Incorrectly Dropped Certain U.S. Sales in the Margin Calculation

VI. Recommendation

[FR Doc. 2025-18338 Filed 9-19-25; 8:45 am]

BILLING CODE 3510-DS-P